DEPARTMENT OF HOMELAND SECURITY

Federal Emergency Management Agency

[Docket ID FEMA-2023-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of October 5, 2023, has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Deputy Assistant Administrator for Risk Management, Federal Emergency Management Agency, Department of Homeland Security.

Community | Community map repository address
Archuleta County, Colorado and Incorporated Areas
Docket No.: FEMA-B-2187
Unincorporated Areas of Archuleta County | Archuleta County Commissioner's Office, 398 Lewis Street, Pagosa Springs, CO 81147.
Lake County, Illinois and Incorporated Areas
Docket No.: FEMA-B-2120
City of Highland Park | Public Services Building, 1150 Half Day Road, Highland Park, IL 60035.
City of Lake Forest | Municipal Services Building, 800 North Field Drive, Lake Forest, IL 60045.
City of North Chicago | City Hall, 1850 Lewis Avenue, North Chicago, IL 60064.
City of Waukegan | Public Works Building, 1700 North McAree Road, Waukegan, IL 60085.
City of Zion | City Hall, 2828 Sheridan Road, Zion, IL 60099.
Unincorporated Areas of Lake County | Lake County Central Permit Facility, 500 West Winchester Road, Unit 101, Libertyville, IL 60048.
Village of Beach Park | Village Hall, 11270 West Wadsworth Road, Beach Park, IL 60099.
Village of Grayslake | Village Hall, 10 South Seymour Avenue, Grayslake, IL 60030.
Village of Gurnee | Village Hall, 325 North O'Plaine Road, Gurnee, IL 60031.
Village of Lake Bluff | Village Hall, 40 East Center Avenue, Lake Bluff, IL 60044.
Village of Libertyville | Schertz Building, 200 East Cook Avenue, Libertyville, IL 60048.
Village of Lindenhurst | Village Hall, 2301 East Sand Lake Road, Lindenhurst, IL 60046.
Village of Old Mill Creek | Village Hall, 19020 Old Grass Lake Road, Old Mill Creek, IL 60046.
Village of Round Lake Beach | Village Hall, 1937 North Municipal Way, Round Lake Beach, IL 60073.
Village of Third Lake | Village Hall, 87 North Lake Avenue, Third Lake, IL 60030.
Village of Wadsworth | Village Hall, 14155 Wadsworth Road, Wadsworth, IL 60083.
Village of Winthrop Harbor | Village Hall, 830 Sheridan Road, Winthrop Harbor, IL 60096.
Mitchell County, Kansas and Incorporated Areas
Docket No.: FEMA-B-2265
City of Beloit | Municipal Building, 119 North Hersey Avenue, Beloit, KS 67420.
City of Cawker City | City Hall, 804 Locust Street, Cawker City, KS 67430.
City of Glen Elder | City Hall, 213 South Market Street, Glen Elder, KS 67446.
City of Hunter | City Hall, 1776 1st Street, Hunter, KS 67452.
City of Scottsville | Mitchell County Emergency Management Office, 114 South Campbell Avenue, Beloit, KS 67420.
City of Simpson | Simpson City Hall, 107 North Elkhorn Street, Beloit, KS 67420.
Unincorporated Areas of Mitchell County | Mitchell County Emergency Management Office, 114 South Campbell Avenue, Beloit, KS 67420.
Henderson County, Kentucky and Incorporated Areas
Docket No.: FEMA-B-2177
City of Henderson | Municipal Center, 222 1st Street, Henderson, KY 42420.
Unincorporated Areas of Henderson County | Henderson County, Peabody Building, 1990 Barrett Court, Suite C, Henderson, KY 42420.
Union County, Kentucky and Incorporated Areas
Docket No.: FEMA-B-2177
City of Morganfield | Union County Planning Commission Office, 100 West Main Street, Morganfield, KY 42437.
City of Uniontown | Union County Planning Commission Office, 100 West Main Street, Morganfield, KY 42437.
Unincorporated Areas of Union County | Union County Planning Commission Office, 100 West Main Street, Morganfield, KY 42437.
Webster County, Kentucky and Incorporated Areas
Docket No.: FEMA-B-2177
Unincorporated Areas of Webster County | Webster County Courthouse, 25 U.S. Highway 41-A South, Dixon, KY 42409.
Missoula County, Montana and Incorporated Areas
Docket No.: FEMA-B-2236
Unincorporated Areas of Missoula County | Missoula County Community and Planning Services Department, 127 East Main Street, Suite 2, Missoula, MT 59802.

[FR Doc. 2023-14086 Filed 6-30-23; 8:45 am]

BILLING CODE 9110-12-P